ENVIRONMENTAL PROTECTION AGENCY

[EPA-HQ-OPPT-2006-0967; FRL-8106-7]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from October 16, 2006 to November 12, 2006, consists of the PMNs and TMEs, both pending or expired, and the notices of commencement to manufacture a new chemical that the Agency has received under TSCA section 5 during this time period.

DATES: Comments identified by the specific PMN number or TME number, must be received on or before January 16, 2007.

ADDRESSES: Submit your comments, identified by docket identification (ID) no. EPA-HQ-OPPT-2006-0967, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2006-0967. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2006-0967. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, will be publicly available only in hard copy. Publicly available docket materials are available electronically at http://www.regulations.gov, or, if only available in hard copy, at the OPPT Docket, EPA Docket Center (EPA/DC). The EPA/DC suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in the EPA West Building, located at 1301 Constitution Ave., NW., Washington, DC. The EPA/DC Public Reading Room is open from 8:30 a.m. to 4:30 p.m., Monday through Friday, excluding legal holidays. The telephone number of the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA web site at http://www.epa.gov/epahome/dockets.htm.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from October 16, 2006 to November 12, 2006, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 46 Premanufacture Notices Received From: 10/02/06 to 11/12/06
Case No. | Received Date | Projected Notice End Date | Manufacturer/Importer | Use | Chemical
P-07-0041 | 10/17/06 | 01/14/07 | Piedmont Chemical Industries I, LLC | (S) Binder resin for polyester fabric knit and nonwoven; binder resin for mattress ticking polyester/polypropylene knit; binder resin for nylon strapping | (S) 1,3-benzenedicarboxylic acid, polymer with 1,4-benzenedicarboxylic acid, 1,3-dihydro-1,3-dioxo-5-isobenzofurancarboxylic acid, 2,2′-oxybis[ethanol] and 1,3-propanediol
P-07-0042 | 10/17/06 | 01/14/07 | Piedmont Chemical Industries I, LLC | (S) Binder resin for polyester fabric knit and nonwoven; binder resin for mattress ticking polyester/polypropylene knit; binder resin for nylon strapping | (S) 1,3-benzenedicarboxylic acid, polymer with 1,4-benzenedicarboxylic acid, 1,3-dihydro-1,3-dioxo-5-isobenzofurancarboxylic acid, dimethyl 1,4-benzenedicarboxylate, 1,2-ethanediol and 2,2′-oxybis [ethanol]
P-07-0043 | 10/17/06 | 01/14/07 | Piedmont Chemical Industries I, LLC | (S) Binder resin for polyester fabric knit and nonwoven; binder resin for mattress ticking polyester/polypropylene knit; binder resin for nylon strapping | (S) 1,3-benzenedicarboxylic acid, polymer with 1,4-benzenedicarboxylic acid, 1,4-butanediol,1,3-dihydro-1,3-dioxo-5-isobenzofurancarboxylic acid, dimethyl 1,4-benzenedicarboxylate and 2,2′-oxybis[ethanol]
P-07-0044 | 10/17/06 | 01/14/07 | Piedmont chemical industries I, LLC | (S) Binder resin for polyester fabric knit and nonwoven; binder resin for mattress ticking polyester/polypropylene knit; binder resin for nylon strapping | (S) 2,6-naphthalenedicarboxylic acid, dimethyl ester, polymer with 1,3-benzenedicarboxylic acid, 1,4-benzenedicarboxylic acid, 1,3-dihydro-1,3-dioxo-5-isobenzofurancarboxylic acid, 1,2-ethanediol and 2,2′-oxybis [ethanol]
P-07-0045 | 10/17/06 | 01/14/07 | CBI | (G) Open non dispersive (binder material) | (G) Polyacrylate resin
P-07-0046 | 10/18/06 | 01/15/07 | International flavors and fragrances, Inc. | (S) Raw material for use in fragrances for soaps, detergents, cleaners and other household products | (S) 4h-indeno[4,5-d]-1,3-dioxole, 3a,5,6,7,8,8b-hexahydro- 2,2,6,6,7,8,8-heptamethyl-
P-07-0047 | 10/17/06 | 01/14/07 | CBI | (G) Textile colorant | (G) Di-substituted acetanilide
P-07-0048 | 10/17/06 | 01/14/07 | Dupont Company | (G) Raw material for polymer production | (G) Salt of amine with aliphatic acid
P-07-0049 | 10/17/06 | 01/14/07 | Dupont Company | (G) Extrusion compounding resin; molding resin | (G) Aliphatic polyamide
P-07-0050 | 10/17/06 | 01/14/07 | CBI | (G) Open non-dispersive polyurethane resin | (G) Polyester polyurethane resin based on 1,5-naphthylene diisocyanate
P-07-0051 | 10/18/06 | 01/15/07 | CBI | (G) Metal working fluid | (G) Polyethylene glycol ether acid
P-07-0052 | 10/18/06 | 01/15/07 | Huntsman International, LLC | (S) Exhaust application to cotton fabrics | (G) Benzenesulfonic acid azo benzenesulfonic acid azo substituted naphthalenesulfonic acid amino substituted triazine amino substituted phenyl sulfonyl compound
P-07-0053 | 10/18/06 | 01/15/07 | CBI | (S) Flavor ingredient; fragrance ingredient; cosmetic ingredient | (G) Oils, watermelon, citrullus lanatus
P-07-0054 | 10/19/06 | 01/16/07 | Henkel Corporation | (S) A component of adhesive formulations | (S) Hexanedioic acid, polymer with 1,3-diisocyanatomethylbenzene and 3-methyl-1,5-pentanediol, propylene gylcol monomethacrylate-blocked
P-07-0055 | 10/20/06 | 01/17/07 | CBI | (G) Additive, open, non-dispersive use | (G) 2-(dimethylamino)ethyl methyl-2-propanoate, polymer with alkyl-substituted methyl-2-propanoate and aryl-substituted methyl-2-propanoate, salt with mono(alkyl-substituted polyalkoxyether)butanedioates and alkyl-substituted polyalkoxyether phosphate
P-07-0056 | 10/23/06 | 01/20/07 | CIBA Specialty Chemicals Corporation | (S) High molecular weight pigment dispersant for waterborne coatings | (G) Modified polyacrylate block polymer
P-07-0057 | 10/23/06 | 01/20/07 | Mane, USA | (G) Perfumery ingredient | (G) Alkyl substituted tetrahydro pyran
P-07-0058 | 10/23/06 | 01/20/07 | Firmenich Inc. | (S) Aroma for use in fragrance mixtures, which in turn are used in perfumes, soaps, cleansers, etc. | (S) 3-hexene, 1-(2-butenyloxy)-, (3z)-
P-07-0059 | 10/25/06 | 01/22/07 | CBI | (G) Automotive coatings | (G) Cyclic acrylic polymer, peroxide initiated
P-07-0060 | 10/27/06 | 01/24/07 | 3M | (G) Monomer | (G) Aliphatic acrylate
P-07-0061 | 10/27/06 | 01/24/07 | 3M | (G) Adhesive | (G) Acrylate copolymer
P-07-0062 | 10/27/06 | 01/24/07 | CBI | (G) Raw material | (G) Amine salt of carbomonocyclic acids
P-07-0063 | 10/27/06 | 01/24/07 | CBI | (G) Coating component | (G) Polymer of styrene, acrylic acid derivatives and alkyl methacrylate
P-07-0064 | 10/30/06 | 01/27/07 | CBI | (S) Resin for printing ink | (G) Modified rosin, hydrocarbon resin
P-07-0065 | 10/30/06 | 01/27/07 | CBI | (G) Moisture curing polyurethane adhesives | (G) Isocyanate terminated urethane polymer
P-07-0066 | 10/30/06 | 01/27/07 | PPG Industries, Inc. | (G) Component of an automotive primer | (G) Trimellitic anhydride, polymer with alkanediol, dihydroxyalkane diglycidyl ether di-3,5,5-trimethylhexanoate homopolymer, ethoxylated bis(hydroxysubstituted) alkane and heteromonocycledione, compound with 2-(dimethylamino) ethanol
P-07-0067 | 10/30/06 | 01/27/07 | CBI | (G) Sodium salt of acrylic copolymer | (G) Sodium salt of an acrylic copolymer
P-07-0068 | 10/30/06 | 01/27/07 | CBI | (G) Open non-dispersive (coatings application) | (G) Polyester resin
P-07-0069 | 10/25/06 | 01/22/07 | The Dow Chemical Company | (G) Binders for granulated rubber surfacing and molding | (G) Mdi and polymeric mdi prepolymer
P-07-0070 | 10/25/06 | 01/22/07 | The Dow Chemical Company | (G) Binders for granulated rubber surfacing and molding | (G) Mdi and polymeric mdi prepolymer
P-07-0071 | 10/25/06 | 01/22/07 | The Dow Chemical Company | (G) Binders for granulated rubber surfacing and molding | (G) Mdi and polymeric mdi prepolymer
P-07-0072 | 10/30/06 | 01/27/07 | CBI | (S) Catalyst for production of foam | (G) Alkanoic acid potassium salt
P-07-0073 | 10/30/06 | 01/27/07 | CBI | (G) Ingredient material in paint formulation | (G) Acrylic resin solution
P-07-0074 | 11/02/06 | 01/30/07 | CBI | (S) Reactive diluent in ultra violet formulations | (G) Alkoxylated pentaerythritol acrylate
P-07-0075 | 11/02/06 | 01/30/07 | CBI | (G) Additive for paper manufacturing | (G) Acrylic polymer with vinyl compound, salt
P-07-0076 | 11/02/06 | 01/30/07 | CBI | (G) Component of manufactured consumer article-contained use | (G) Benzene, 1,1′-[1,2-ethanediylbis(oxy)bis[polymethyl-
P-07-0077 | 11/03/06 | 01/31/07 | CBI | (G) Raw material for food packaging container | (G) Copolymer of alkene-alkenyl
P-07-0078 | 11/03/06 | 01/31/07 | CBI | (G) Additive for paper manufacturing | (G) Acrylic polymer salt with vinyl compound, salts
P-07-0079 | 11/03/06 | 01/31/07 | CBI | (S) Light stabilizer for plastic articles | (G) Substituted piperidinol, carbonate
P-07-0080 | 11/08/06 | 02/05/07 | Cognis Corporation | (S) Biodegradable hydraulic fluid for use in construction equipment ie., bullldozers, cranes etc. | (S) Nonanedioic acid, bis(2-hexyldecyl) ester
P-07-0081 | 11/08/06 | 02/05/07 | Cognis Corporation | (S) Biodegradable hydraulic fluid for use in construction equipment ie., bull dozers, cranes etc. | (S) Nonanedioic acid, bis(2-octyldodecyl) ester
P-07-0082 | 11/08/06 | 02/05/07 | Cognis Corporation | (S) Biodegradable hydraulic fluid for use in construction equipment ie., bullldozers, cranes etc. | (S) Decanedioic acid, bis(2-hexyldecyl) ester
P-07-0083 | 11/08/06 | 02/05/07 | Cognis Corporation | (S) Biodegradable hydraulic fluid for use in construction equipment ie., bullldozers, cranes etc. | (S) Decanedioic acid, bis(2-octyldodecyl) ester
P-07-0084 | 11/09/06 | 02/06/07 | CBI | (G) Open, non-dispersive use | (G) Polyester polyol
P-07-0085 | 11/09/06 | 02/06/07 | Cytec Surface Specialties Inc. | (G) Coatings resin | (G) Acrylated aliphatic polyurethane
P-07-0086 | 11/09/06 | 02/06/07 | CBI | (G) Open, non-dispersive use | (G) Water disperisible polyurethane

In Table II of this unit, EPA provides the following information (to the extent that such information is not claimed as CBI) on the TMEs received:

II. 1 Test Marketing Exemption Notices Received From: 10/02/06 to 11/12/06
Case No. | Received Date | Projected Notice End Date | Manufacturer/Importer | Use | Chemical
T-07-0001 | 11/09/06 | 12/23/06 | Cytec Surface Specialties Inc. | (G) Coating resin | (G) Acrylated aliphatic polyurethane

In Table III of this unit, EPA provides the following information (to the extent that such information is not claimed as CBI) on the Notices of Commencement to manufacture received:

III. 57 Notices of Commencement From: 10/02/06 to 11/12/00
Case No. | Received Date | Commencement Notice End Date | Chemical
P-05-0484 | 04/07/06 | 03/09/06 | (G) Polyoxyethylene polyxoxypropylene polymer, reaction with cyclohexylmethane diisocyanate and polyoxyphenyl derivative
P-05-0551 | 04/07/06 | 03/09/06 | (G) Polyalkylene glycol alkyl ether, reaction products with allyl glycidyl ether
P-05-0694 | 04/07/06 | 03/09/06 | (G) Polyalkylene glycol aryl ether, reaction products with formaldehyde
P-06-0092 | 04/07/06 | 03/09/06 | (G) Oxirane,methyl-, polymer with oxirane, fatty acid alkyl ethers
J-05-0001 | 10/03/06 | 08/14/06 | (G) Trichoderma reesei 3236
J-05-0002 | 10/03/06 | 08/24/06 | (G) Trichoderma reesei 3243
J-06-0001 | 10/03/06 | 08/11/06 | (G) Trichoderma reesei 3260
P-01-0084 | 10/10/06 | 09/27/06 | (G) 1,2,4,5-benzenetetracarboxylic acid, tetrakis esters with monohydric alcohols
P-01-0170 | 10/05/06 | 09/12/06 | (S) Acetic acid, [(5-chloro-8-quinolinyl)oxy-], 1-methylhexyl ester
P-03-0273 | 10/12/06 | 09/25/06 | (G) Acrylic polymer
P-03-0664 | 10/02/06 | 09/20/06 | (G) Urethane acrylate resin
P-05-0740 | 10/02/06 | 09/13/06 | (G) Peroxyalkanoic acid
P-05-0742 | 10/02/06 | 08/30/06 | (G) Peroxyalkanoic acid
P-05-0743 | 10/02/06 | 08/30/06 | (G) Peroxyalkanoic acid
P-05-0744 | 10/02/06 | 08/30/06 | (G) Peroxyalkanoic acid
P-05-0745 | 10/02/06 | 08/30/06 | (G) Peroxyalkanoic acid
P-06-0039 | 10/04/06 | 09/28/06 | (G) Aqueous polyurethane dispersion
P-06-0131 | 10/02/06 | 09/13/06 | (S) Siloxanes and silicones, hydroxy me, 3-hydroxypropyl me, me (1-oxooctyl)oxy, esters with C12-20 fatty acids, ethers with polyethylene-polypropylene glycol mono-bu ether
P-06-0172 | 10/02/06 | 09/08/06 | (G) Fatty acid polymer with aliphatic diol and aromatic diacid
P-06-0317 | 10/11/06 | 09/26/06 | (G) Polycarbonate polyurethane
P-06-0318 | 10/11/06 | 09/26/06 | (G) Polycarbonate polyurethane resin
P-06-0320 | 10/11/06 | 09/26/06 | (G) Polyurethane dispersion
P-06-0386 | 10/10/06 | 09/07/06 | (S) 1,3-propanediol, 2-butyl-2-ethyl-, polymers with methylated formaldehyde-melamine polymer
P-06-0552 | 10/11/06 | 09/21/06 | (S) Tricyclo[7.3.3.15,11]heptasiloxane-3,7,14-triol, 1,3,5,7,9,11,14-heptakis(2-methylpropyl)-
P-06-0626 | 10/10/06 | 09/26/06 | (G) Isocyanate functional polyester urethane polymer
P-02-0922 | 10/25/06 | 09/30/06 | (G) Urethane acrylate dispersion
P-03-0847 | 10/31/06 | 10/25/06 | (G) 14-carbon keto-alkyne
P-04-0920 | 10/17/06 | 09/21/06 | (G) Alkaryl sulfonic acid, metal salts
P-04-0925 | 10/17/06 | 09/15/06 | (G) Alkaryl sulfonic acid
P-04-0926 | 10/17/06 | 09/15/06 | (G) Alkaryl sulfonic acid
P-04-0930 | 10/16/06 | 09/10/06 | (G) Toluene alkylate
P-04-0931 | 10/16/06 | 09/10/06 | (G) Toluene alkylate
P-05-0127 | 11/02/06 | 10/20/06 | (G) Polymer of alkanepolyol, fatty acid derivative, and disubstituted benzenes
P-05-0557 | 11/01/06 | 09/13/06 | (G) Polyetherethersulfonesulfone block copolymer
P-06-0114 | 10/20/06 | 09/21/06 | (G) Alkaryl sulfonic acid, metal salts
P-06-0115 | 10/20/06 | 09/21/06 | (G) Alkaryl sulfonic acid, metal salts
P-06-0127 | 10/25/06 | 09/18/06 | (G) Modified butyl acrylate
P-06-0167 | 11/03/06 | 10/16/06 | (G) Substituted benzoic acid ester
P-06-0223 | 11/06/06 | 10/19/06 | (G) Heteromonocyclic, 2-mercapto-5,5-dimethyl-, 2-oxide
P-06-0238 | 11/01/06 | 10/17/06 | (S) Fatty acids, C18-unsatd., dimers, hydrogenated, polymers with adipic acid, 1,6-hexanediol, .alpha.-hydro-.omega.-hydroxypoly(oxy-1,4-butanediyl), 3-hydroxy-2-(hydroxymethyl)-2-methylpropanoic acid, 5-isocyanato-1-(isocyanatomethyl)-1, 3,3-trimethylcyclohexane, 2-methyl-1,5-pentanediamine and 2-oxepanone, compounds with triethylamine
P-06-0261 | 11/02/06 | 10/05/06 | (G) Alkylenediol, dialkyl-, polymer with isocyanato(isocyanatoalkyl)trialkylcycloalkane, dipentaerythritol acrylate- and pentaerythritol acrylate-blocked, homopolymer
P-06-0283 | 11/03/06 | 10/30/06 | (G) Fatty acids, polymers with alkanoic acid, and epoxy resin
P-06-0284 | 11/03/06 | 10/30/06 | (G) Fatty acids, polymers with alkanoic acid and alkoxylated polyols
P-06-0289 | 10/24/06 | 10/14/06 | (G) Polyurethane urea
P-06-0313 | 11/03/06 | 10/30/06 | (G) Alkenoic acid modified vinylic copolymer
P-06-0346 | 10/16/06 | 10/03/06 | (G) Urethane modified polyamide
P-06-0510 | 10/16/06 | 10/03/06 | (G) Polyether modified polydimethylsiloxane
P-06-0511 | 10/16/06 | 10/03/06 | (G) Polyether modified polydimethylsiloxane
P-06-0540 | 10/30/06 | 10/14/06 | (G) Aliphatic polyester - polyether polyurethane dispersion
P-06-0548 | 11/06/06 | 10/13/06 | (G) Substituted trihalomethylpyridine
P-06-0590 | 10/26/06 | 10/15/06 | (G) Polyester polyol
P-06-0593 | 10/17/06 | 10/10/06 | (G) Aliphatic isocyanate resin
P-06-0599 | 11/03/06 | 10/27/06 | (G) Pmn substance b) aromatic substituted bis-dihydropyrrole monosodium salt; pmn substance c) aromatic substituted bis-dihydropyrrole disodium salt
P-06-0602 | 10/23/06 | 09/22/06 | (G) Silicone modified acrylic polymer
P-06-0612 | 11/06/06 | 10/29/06 | (G) Substituted carbohydrate
P-06-0644 | 10/17/06 | 10/05/06 | (S) Magnesium, bromo(pentafluorophenyl)-
P-95-1404 | 10/30/06 | 10/14/06 | (G) Unsaturated polyester resin

List of Subjects

Environmental protection, Chemicals, Premanufacturer notices.

Dated: December 7, 2006.
Bernice Mudd,
Acting Director, Information Management Division, Office of Pollution Prevention and Toxics.

[FR Doc. E6-21428 Filed 12-14-06; 8:45 am]

BILLING CODE 6560-50-S